DEPARTMENT OF STATE

[Public Notice 6244]

Determination Under Section 699C of the Department of State, Foreign Operations, and Related Programs Appropriations Act, 2008, Relating to Assistance to the Democratic Republic of Congo

Pursuant to the authority vested in me by Section 699C(c) of the Department of State, Foreign Operations, and Related Programs Appropriations Act, 2008 (Div. J, P.I. 110-161), I hereby determine that waiver of the application of the restriction in Section 699C(a) to the Democratic Republic of Congo is important to the national interest of the United States and thereby waive this restriction with respect to that country.

This determination shall be reported to Congress and published in the Federal Register.

Dated: May 9, 2008.
Condoleezza Rice,
Secretary of State, Department of State.

[FR Doc. E8-12500 Filed 6-3-08; 8:45 am]

BILLING CODE 4710-26-P